DEPARTMENT OF COMMERCE

National Oceanic and Atmospheric Administration

[I.D. 022707D]

Gulf of Mexico Fishery Management Council; Scoping Meetings

AGENCY: National Marine Fisheries Service (NMFS), National Oceanic and Atmospheric Administration (NOAA), Commerce.

ACTION: Notice of scoping meetings.

SUMMARY: The Gulf of Mexico Fishery Management Council (Council) will convene scoping meetings to solicit comments on Reef Fish Amendment 30.

DATES: The scoping meetings will be held from March 19 - 22, 2007 at 7 locations throughout the Gulf of Mexico. For specific dates and times, see SUPPLEMENTARY INFORMATION.

ADDRESSES: The scoping meetings will be held in the following locations: Orange Beach, AL, Panama City, Naples and Madeira Beach, FL, Biloxi, MS, New Orleans, LA and Galveston, TX. For specific locations, see SUPPLEMENTARY INFORMATION.

Council address: Gulf of Mexico Fishery Management Council, 2203 North Lois Avenue, Suite 1100, Tampa, FL 33607.

FOR FURTHER INFORMATION CONTACT: Steven Atran, Population Dynamics Statistician, Gulf of Mexico Fishery Management Council; telephone: (813) 348-1630.

SUPPLEMENTARY INFORMATION: The Gulf of Mexico Fishery Management Council (Council) has scheduled a series of scoping meetings to solicit public comment on a scoping document to define issues to be addressed in a new Amendment 30 to the Reef Fish Fishery Management Plan. The issues deal with possible changes to the management of gag, red grouper, greater amberjack, and gray triggerfish. Recent stock assessments completed under the Southeast Data, Assessment and Review (SEDAR) program, indicate that management changes may be warranted.

Gag were declared by NMFS to be undergoing overfishing based on the results of a 2006 stock assessment (SEDAR 10). A fishing mortality rate reduction of 10 to 34 percent is needed to end overfishing under the current overfishing definition. In addition, management targets and thresholds consistent with the Sustainable Fisheries Act need to be reviewed and adopted.

Red grouper were initially determined to be overfished and undergoing overfishing as of 1997. A rebuilding plan combined with a strong recruitment year class that occurred in 2000 has resulted in a stock that is currently above its maximum sustainable yield (MSY) biomass threshold and slightly above to its optimum yield (OY) target level. As a result, a 15% increase in red grouper TAC and management measures to achieve that increase can be implemented while still maintaining OY.

Greater amberjack were found to be overfished and undergoing overfishing as of 1998 based on a 2000 stock assessment. A rebuilding plan was adopted in 2003. A 2006 stock assessment (SEDAR 9) found that the greater amberjack stock continues to be overfished and undergoing overfishing, and is not meeting its rebuilding targets. Consequently, the rebuilding plan needs to be revised. Reductions of from 11 to 30 percent are needed depending upon the revisions made to the rebuilding plan.

Gray triggerfish were found to be undergoing overfishing based on a 2006 stock assessment (SEDAR 9). A 35 percent reduction in landings is necessary to end overfishing. In addition, management targets and thresholds consistent with SFA need to be reviewed and adopted.

Scoping meetings are part of the initial phase of preparing a plan amendment. Their purpose is to identify issues and a reasonable range, or scope, of alternatives to address those issues. Such alternatives could include changes in total allowable catch (TAC), size limits, bag limits, quotas, closed seasons or areas, or other measures to reduce fishing mortality and dead discards.

The scoping meetings will begin at 7 p.m. and conclude at the end of public testimony or no later than 10 p.m. at each of the following locations:

Monday, March 19, 2007, IP Hotel, 850 Bayview Avenue, Biloxi, MS 39530; telephone: (228) 432-3216;

Monday, March 19, 2007, City of Orange Beach Parks and Recreational Center, 27235 Canal Road, Orange Beach, AL 36561; telephone: (251) 981-6028;

Tuesday, March 20, 2007, Four Points Sheraton New Orleans Airport, 6401 Veterans Memorial Blvd., Metairie, LA 70003; telephone: (504) 885-5700;

Tuesday, March 20, 2007, Edgewater Beach Resort, 11212 Front Beach Road, Panama City, FL 32407; telephone: (800) 331-6338;

Wednesday, March 21, 2007, Hilton Galveston, 5400 Seawall Boulevard, Galveston, TX 77550; telephone: (409) 744-1500;

Wednesday, March 21, 2007, Best Western, 6400 Dudley Drive, Naples, FL 34105; telephone: (239) 643-6655; and

Thursday, March 22, 2007, City of Madeira Beach, 300 Municipal Drive, Madeira Beach, FL 33708; telephone: (727) 391-9951;

Copies of the scoping documents and related materials can be obtained by calling the Council office at (813) 348-1630.

Special Accommodations

These meetings are physically accessible to people with disabilities. Requests for sign language interpretation or other auxiliary aids should be directed to Tina Trezza at the Council (see ADDRESSES) at least 5 working days prior to the meeting.

Dated: February 28, 2007.
Tracey L. Thompson,
Acting Director, Office of Sustainable Fisheries, National Marine Fisheries Service.

[FR Doc. E7-3738 Filed 3-2-07; 8:45 am]

BILLING CODE 3510-22-S